DEPARTMENT OF AGRICULTURE

Animal and Plant Health Inspection Service

[Docket No. APHIS-2022-0030]

Notice of Request for Extension of Approval of an Information Collection; Mycoplasma Bovis in Bison 2022 Case Control Study

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the 2022 case control study for the Mycoplasma bovis pathogen in U.S. bison herds.

DATES: We will consider all comments that we receive on or before August 8, 2022.

ADDRESSES: You may submit comments by either of the following methods:

• Federal eRulemaking Portal: Go to www.regulations.gov. Enter APHIS-2022-0030 in the Search field. Select the Documents tab, then select the Comment button in the list of documents.

• Postal Mail/Commercial Delivery: Send your comment to Docket No. APHIS-2022-0030, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on this study for the Mycoplasma bovis pathogen in bison, contact Mr. William Kelley, Assistant Director, Program Coordination & Implementation, Center for Epidemiology and Animal Health, VS, APHIS, 2150 Centre Avenue, Building B, MS 2E6, Fort Collins, CO 80526; (970) 494-7270. For information about the information collection process, contact Mr. Joseph Moxey, APHIS' Paperwork Reduction Act Coordinator, at (301) 851-2483.

SUPPLEMENTARY INFORMATION: Title: Mycoplasma Bovis in Bison 2022 Case Control Study.

OMB Control Number: 0579-0482.

Type of Request: Extension of approval of an information collection.

Abstract: Under the Animal Health Protection Act (7 U.S.C. 8301 et seq.), the Secretary of Agriculture is authorized to protect the health of livestock, poultry, and aquaculture populations in the United States by preventing the introduction and interstate spread of serious diseases and pests of livestock and for eradicating such diseases within the United States when feasible. This authority has been delegated to the Animal and Plant Health Inspection Service (APHIS).

APHIS first recognized Mycoplasma bovis as an emerging pathogen in bison herds in 2013. Since that time, few additional premises had been reported as affected until 2021, when multiple new premises and herds experienced significant losses attributed to the appearance of Mycoplasma bovis in the herds. These herds began experiencing 10 to 50 percent herd loss affecting multiple age classes, with reproductive-aged cows suffering the most significant losses. Despite the unique and significant burden of this pathogen on bison, little information exists on the sources of infection to naïve herds. Once affected, bison producers report significant recurrent losses in subsequent years, and producers who were first affected in 2013 continued to experience significant losses, particularly in 2021. Diagnostic testing is not currently able to identify animals infected but not shedding the bacterium; therefore, these animals can serve as a source of infection during subsequent years. To limit additional herds becoming infected in the 2022 season, APHIS is conducting a study on the potential sources of new infections in naïve herds and will collect information needed to identify risk factors for this rapidly spreading pathogen. Identifying risk factors is critical for developing prevention and control recommendations that are necessary because there are no effective treatments or vaccines currently for this pathogen and resulting mortality losses are high and recurring.

The information collection activity associated with this study consists of a multi-question questionnaire administered to bison producers (herd owners or managers). In April 2022, APHIS requested and was granted emergency approval by the Office of Management and Budget (OMB) to conduct this information collection activity for 6 months. We are asking OMB to approve our use of this information collection activity for an additional 3 years in the event additional study opportunities arise from future unanticipated Mycoplasma bovis outbreaks in bison herds.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.25 hours per response.

Respondents: Bison producers (herd owners or managers).

Estimated annual number of respondents: 220.

Estimated annual number of responses per respondent: 1.

Estimated annual number of responses: 220.

Estimated total annual burden on respondents: 55 hours. (Due to averaging, the total annual burden hours may not equal the product of the annual number of responses multiplied by the reporting burden per response.)

All responses to this notice will be summarized and included in the request for OMB approval. All comments will also become a matter of public record.

Done in Washington, DC, this 2nd day of June 2022.
Anthony Shea,
Administrator, Animal and Plant Health Inspection Service.

[FR Doc. 2022-12262 Filed 6-6-22; 8:45 am]

BILLING CODE 3410-34-P